NUCLEAR REGULATORY COMMISSION

[Docket No. 40-6394-MLA; ASLBP No. 00-777-05-MLA]

Department of the Army, U.S. Army Research Laboratory; Designation of Presiding Officer

Pursuant to delegation by the Commission, see 37 FR 28,710 (Dec. 29, 1972), and the Commission's regulations, see 10 CFR 2.1201, 2.1207, notice is hereby given that: (1) A single member of the Atomic Safety and Licensing Board Panel is designated as Presiding Officer to rule on petitions for leave to intervene and/or requests for hearing; and (2) upon making the requisite findings in accordance with 10 CFR 2.1205(h), the Presiding Officer will conduct an adjudicatory hearing in the following proceeding:

Department of the Army, U.S. Army Research Laboratory, Depleted Uranium Study Area of the Transonic Range, Aberdeen Proving Ground, Maryland

The hearing will be conducted pursuant to 10 CFR part 2, subpart L, of the Commission's Regulations, “Informal Hearing Procedures for Adjudications in Materials and Operator Licensing Proceedings.” This proceeding concerns a request for hearing submitted by Aberdeen Proving Ground Superfund Citizens Coalition (APGSCC). The request was filed in response to a notice of consideration by the Nuclear Regulatory Commission staff concerning issuance of an amendment to Source Material License No. SMB-141. The application requests decommissioning of the Depleted Uranium Study Area (DUSA) of the Transonic Range at the Department of the Army's U.S. Army Research Laboratory facility in Aberdeen Proving Ground, Maryland. The notice of consideration of the application and opportunity for hearing was published in the Federal Register at 65 FR 17,321 (Mar. 31, 2000).

The Presiding Officer in this proceeding is Administrative Judge Ivan W. Smith. Pursuant to the provisions of 10 CFR 2.722, 2.1209, Administrative Judge Thomas D. Murphy has been appointed to assist the Presiding Officer in taking evidence and in preparing a suitable record for review.

All correspondence, documents, and other materials shall be filed with Judges Smith and Murphy in accordance with 10 CFR 2.1203. Their addresses are:

Administrative Judge Ivan W. Smith, Presiding Officer, Atomic Safety and Licensing Board Panel, U.S. Nuclear Regulatory Commission, Washington, D.C. 20555-0001

Administrative Judge Thomas D. Murphy, Special Assistant, Atomic Safety and Licensing Board Panel, U.S. Nuclear Regulatory Commission, Washington, D.C. 20555-0001

Issued at Rockville, Maryland, this 18th day of May 2000.
G. Paul Bollwerk III,
Chief Administrative Judge, Atomic Safety and Licensing Board Panel.

[FR Doc. 00-13059 Filed 5-23-00; 8:45 am]

BILLING CODE 7590-01- P